DEPARTMENT OF LABOR

Occupational Safety and Health Administration

[Docket No. ICR-1218-0061(2005)]

Cotton Dust Standard; Extension of the Office of Management and Budget's (OMB) Approval of Information Collection (Paperwork) Requirements

AGENCY: Occupational Safety and Health Administration (OSHA), Labor.

ACTION: Request for public comment.

SUMMARY: OSHA solicits public comment concerning its request for an extension of the information collection requirements contained in the Cotton Dust Standard (29 CFR 1910.1043).

DATES: Comments must be submitted by the following dates:

Hard copy: Your comments must be submitted (postmarked or received) by August 29, 2005.

Facsimile and electronic transmission: Your comments must be received by August 29, 2005.

ADDRESSES: You may submit comments, identified by OSHA Docket No. ICR-1218-0061 (2005), by any of the following methods:

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., e.t.

Facsimile: If your comments are 10 pages or fewer in length, including attachments, you may fax them to the OSHA Docket Office at (202) 693-1648.

Electronic: You may submit comments through the Internet at http://ecomments.osha.gov. Follow instructions on the OSHA Web page for submitting comments.

Docket: For access to the docket to read or download comments or background materials, such as the complete Information Collection Request (ICR) (containing the Supporting Statement, OMB-83-I Form, and attachments), go to OSHA's Web page at http://www.OSHA.gov. In addition, the ICR, comments and submissions are available for inspection and copying at the OSHA Docket Office at the address above. You may also contact Todd Owen at the address below to obtain a copy of the ICR. For additional information on submitting comments, please see the “Public Participation” heading in the supplementary information section of this document.

FOR FURTHER INFORMATION CONTACT: Todd Owen, Directorate of Standards and Guidance, OSHA, Room N-3609, 200 Constitution Avenue, NW., Washington, DC 20210, telephone: (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)).

This program ensures that information is in the desired format, reporting burden (time and costs) is minimal, collection instruments are clearly understood, and OSHA's estimate of the information collection burden is accurate. The Occupational Safety and Health Act of 1970 (the Act) (29 U.S.C. 651 et seq.) authorizes information collection by employers as necessary or appropriate for enforcement of the Act or for developing information regarding the causes and prevention of occupational injuries, illnesses, and accidents (29 U.S.C. 657).

On January 5, 2005, OSHA published the Standards Improvement Project—Phase II, Final rule (70 FR 1112). The final rule removed and revised provisions of standards that were outdated, duplicative, unnecessary, or inconsistent and clarified or simplified regulatory language. The final rule contained a revision to allow employers the option to either post employee exposure-monitoring results or notify individually, instead of allowing only individual notification. The changes reduced paperwork burden hours while maintaining worker protection and improving consistency among standards. The burden hour reduction was taken in the previous ICR.

The information collection requirements specified in the Cotton Dust Standard (29 CFR 1910.1043) protect employees from the adverse health effects that may result from their exposure to Cotton Dust. The major information collection requirements of the Cotton Dust Standard include: Performing exposure monitoring, including initial, periodic, and additional monitoring; notifying each employee of their exposure monitoring results either individually in writing or by posting; implementing a written compliance program; and establishing a respiratory protection program in accordance with OSHA's Respiratory Protection Standard (29 CFR 1910.134).

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA proposes to extend the Office of Management and Budget's (OMB) approval of these collection of information (paperwork) requirements necessitated by the Cotton Dust Standard (29 CFR 1910.1043). The Agency will include this summary in its request to OMB to extend the approval of these collection of information requirements.

Type of Review: Extension of currently approved information collection requirements.

Title: Cotton Dust Standard.

OMB Number: 1218-0061.

Affected Public: Business or other for-profits; Federal Government; State, Local or Tribal Government.

Frequency: On occasion.

Average Time Per Response: Varies from 5 minutes (.08 hour) to maintain a required record to two hours to conduct exposure monitoring.

Estimated Total Burden Hours: 70,340.

Estimated cost (Operation and Maintenance): 6,526,315.

IV. Public Participation—Submission of comments on This Notice and Internet Access to Comments and Submissions

You may submit comments and supporting materials in response to this notice by (1) hard copy, (2) FAX transmission (facsimile), or (3) electronically through the OSHA Webpage. Because of security-related problems, there may be a significant delay in the receipt of comments by regular mail. Please contact the OSHA Docket Office at (202) 693-2350 (TTY (877) 889-5627) for information about security procedures concerning the delivery of submissions by express delivery, hand delivery and courier service.

All comments, submissions and background documents are available for inspection and copying at the OSHA Docket Office at the above address. Comments and submissions posted on OSHA's Webpage are available at http://www.OSHA.gov. Contact the OSHA docket Office for information about materials not available through the OSHA Webpage and for assistance using the Webpage to locate docket submissions.

Electronic copies of this Federal Register notice as well as other relevant documents are available on OSHA's Webpage. Since all submissions become public, private information such as social security numbers should not be submitted.

V. Authority and Signature

Jonathan L. Snare, Acting Assistant Secretary of Labor for Occupational Safety and Health, directed the preparation of this notice. The authority for this notice is the Paperwork Reduction Act of 1995 (44 U.S.C. 3406 et seq.), and Secretary of Labor's Order No. 5-2002 (67 FR 65008).

Dated: Signed at Washington, DC, on June 22, 2005.
Jonathan L. Snare,
Acting Assistant Secretary of Labor.

[FR Doc. 05-12769 Filed 6-27-05; 8:45 am]

BILLING CODE 4510-26-M